DEPARTMENT OF AGRICULTURE

Farm Service Agency

[Docket ID: FSA-2023-0016]

Information Collection Request; Emergency Conservation Program (ECP) and Biomass Crop Assistance Program (BCAP)

AGENCY: Farm Service Agency, USDA.

ACTION: Notice; request for comments.

SUMMARY: In accordance with the Paperwork Reduction Act, the Farm Service Agency (FSA) is requesting comments from all interested individuals and organizations on a revision of currently approved information collection associated with the Emergency Conservation Program (ECP) and Biomass Crop Assistance Program (BCAP). The revision will include new forms related to ECP that will accompany new software to be implemented fiscal year 2024. The existing forms for prior ECP contracts will remain in use until contracts executed prior to fiscal year 2024 are closed.

DATES: We will consider comments that we receive by October 20, 2023.

ADDRESSES: We invite you to submit comments on this Notice. You may submit comments, identified by Docket ID: FSA-2023-0016, by any of the following methods:

• Federal eRulemaking Portal: Go to: www.regulations.gov. Follow the online instructions for submitting comments.

• Mail, Hand Delivery, or Courier: Shanita Landon, ECP Program Manager, Conservation Division, Farm Service Agency, United States Department of Agriculture, STOP 0513, 1400 Independence Avenue SW, Washington, DC 20250-0513.

You may also send comments to the Desk Officer for Agriculture, Office of Information and Regulatory Affairs, Office of Management and Budget, Washington, DC 20503. Copies of the information collection may be requested by contacting Shanita Landon.

FOR FURTHER INFORMATION CONTACT: For specific questions related to collection activities, Shanita London, (202) 578-9928 (work mobile); email: shanita.landon@usda.gov. Persons with disabilities who require alternative means for communication should contact the USDA Target Center at (202) 720-2600 (voice).

SUPPLEMENTARY INFORMATION:

Description of Information Collection

Title: Emergency Conservation Program and Biomass Crop Assistance Program.

OMB Control Number: 0560-0082.

Expiration Date: July 31, 2024.

Type of Request: Revision.

Abstract: The collection of this information is necessary to allow FSA to:

(1) Effectively administer the regulations under ECP, which are set forth at 7 CFR part 701, so as to provide funding and technical assistance for farmers and ranchers to restore farmland damaged by natural disasters, and for emergency water conservation measures in severe droughts; and

(2) Effectively administer the regulations for BCAP, which are set forth at 7 CFR part 1450, so as to provide financial assistance to owners and operators of agricultural and non-industrial private forest land who wish to establish, produce, and deliver biomass feedstocks.

This information is collected in support of, respectively, sections 401-407 of the Agricultural Credit Act of 1978 (Pub. L. 95-334), as amended, and section 9011 of the Farm Security and Rural Investment Act of 2002 (Pub. L. 107-171), as amended.

Activity related to BCAP did not change since the last Office of Management and Budget (OMB) submission due to the lack of BCAP funding. Activity related to ECP requests, approvals, and payments has increased due to major storm systems that caused catastrophic damage across the nation, from 2022-2023. Hurricane Fiona and Ian occurred in 2022. Multiple wildfires in 2022 and flood events in 2023 all contributed to the increase in activity. The new Cost-Share Request form for ECP is included in this request. The number of responses increased to 560,000 while the burden hours increased by 18,497 to cover the new Cost-Share Request form. The number of respondents remains 140,000 in the request.

For the following estimated total annual burden on respondents, the formula used to calculate the total burden hours is the estimated average time per response multiplied by the estimated total annual of responses.

Estimate of Average Time to Respond: Public reporting burden for collecting information under this notice is estimated to average 0.0688 hours per responses, including the time for reviewing instructions, searching existing data sources, gathering and maintaining the data needed, completing and reviewing the collection of information for all respondents.

Type of Respondents: Owners, operators and other eligible agricultural producers on eligible farmland.

Estimated Number of Respondents: 140,000.

Estimated Number of Responses per Respondent: 3.04.

Estimated Total Annual Reponses: 945,445.

Estimated Total Annual Burden on Respondents: 67,852 hours.

We are requesting comments on all aspects of this information collection to help us to:

(1) Evaluate whether the proposed collection of information is necessary for the proper performance of the functions of the agency, including whether the information will have practical utility;

(2) Evaluate the accuracy of the agency's estimate of the burden of the collection of information, including the validity of the methodology and assumptions used;

(3) Evaluate the quality, ability and clarity of the information technology; and

(4) Minimize the burden of the information collection on those who respond through the use of appropriate automated, electronic, mechanical, or other technological collection techniques or other forms of information.

All responses to this notice, including names and addresses when provided, will be summarized and included in the request for OMB approval. All comments will also become a matter of public record.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Administrator, Farm Service Agency.

[FR Doc. 2023-17952 Filed 8-18-23; 8:45 am]

BILLING CODE 3410-05-P